ENVIRONMENTAL PROTECTION AGENCY

[FRL-6876-7]

Science Advisory Board; Notification of Public Advisory Committee Meeting

SUMMARY: Pursuant to the Federal Advisory Committee Act, Public Law 92-463, notice is hereby given that the EPA Science Advisory Board's (SAB) Clean Air Scientific Advisory Committee—Diesel Review Panel will meet on Thursday and Friday, October 12-13, 2000, in Ballroom C of the Holiday Inn, 625 First Street, Alexandria, VA 22314. The phone number for the hotel is: 703-548-6300. The meeting will start at 8:30 am and end no later than 5:00 pm each day. All times noted are Eastern Time. The meeting is open to the public, however, seating is limited and available on a first come basis. Important Notice: Documents that are the subject of SAB reviews are normally available from the originating EPA office and are not available from the SAB Office—information concerning availability of documents from the relevant Program Office is included below.

Purpose of the Meeting: The CASAC Diesel Review Panel will review the Agency's draft Health Assessment Document for Diesel Exhaust (EPA/600/8-90/057E, July 2000). This continues the CASAC review of an earlier version of this document that last took place on December 1, 1999 (see 64 Federal Register 61875, November 15, 1999 for further details of that meeting). Please see the CASAC report of that meeting (EPA-SAB-CASAC-00-004, February 4, 2000, CASAC Review of the draft Diesel Health Assessment Document, available on the SAB Website [www.epa.gov/sab] or from the SAB staff at (202) 564-4533). The principal purpose of the October 12-13, 2000 meeting is for the Committee to determine if the Agency has responded to previous concerns of the Committee and if the document is an adequate portrayal of the current state of knowledge on diesel emissions.

Availability of Review Materials: The draft Health Assessment Document for Diesel Exhaust (EPA/600/8-90/057E, July 2000), is available to the public as follows. An electronic version of the draft assessment is available via the National Center for Environmental Assessment (NCEA) web site at http://www.epa.gov/ncea (under What's New). A limited number of paper copies are available from NCEA's Technical Information Staff (phone: 202-564-3261; fax: 202-565-0050).

The Agency will be accepting comments on the draft assessment. Comments must be in writing and must be postmarked by September 29, 2000. For details on the availability of the draft document, and for information on how to provide comments, please see 65 Federal Register 49241, August 11, 2000.

FOR FURTHER INFORMATION: Members of the public desiring additional information about the meeting should contact Mr. Robert Flaak, Designated Federal Officer, Clean Air Scientific Advisory Committee, Science Advisory Board (1400A), U.S. EPA, 401 M Street, SW, Washington, DC 20460 (FedEx address: USEPA, SAB, Suite 6450, Ariel Rios Building, North Lobby, 1200 Pennsylvania Ave. NW, Washington, DC 20004); telephone/voice mail at (202) 564-4546; fax at (202) 501-0582; or via e-mail at flaak.robert@epa.gov. The draft agenda will be available approximately two weeks prior to the meeting on the SAB website (http://www.epa.gov/sab) or from Ms. Diana Pozun at (202) 564-4544; FAX: (202) 501-0582; or e-mail at: pozun.diana@epa.gov.

Members of the public who wish to make a brief oral presentation at the meeting must contact Mr. Flaak in writing (by letter, fax, or e-mail—see previously stated information) no later than 12 noon Eastern Time, Wednesday, October 4, 2000 in order to be included on the Agenda. Organizations and individuals are encouraged to coordinate presentations prior to contacting Mr. Flaak. Please note: Due to the large number of expected speakers, any individual or organization who requests time to speak and then withdraws that request prior to or at the meeting will not be able to allocate their time to another group or organization.

Providing Oral or Written Comments at SAB Meetings

The Science Advisory Board expects that public statements presented at its meetings will not be repetitive of previously submitted oral or written statements. In general, each individual or group making an oral presentation will be limited to a total time of ten minutes. Written comments (at least 35 copies) received in the SAB Staff Office sufficiently prior to a meeting date (usually one week before the meeting), may be mailed to the relevant SAB committee or subcommittee; comments received too close to the meeting date will normally be provided to the committee at its meeting, or mailed soon after receipt by the Agency. Written comments may be provided to the relevant committee or subcommittee up until the time of the meeting.

Additional information concerning the Science Advisory Board, its structure, function, and composition, may be found on the SAB Website (http://www.epa.gov/sab) and in the Annual Report of the Staff Director which is available from the SAB Publications Staff at (202) 564-4533 or via fax at (202) 501-0256.

Meeting Access

Individuals requiring special accommodation at this meeting, including wheelchair access, should contact Mr. Flaak at least five business days prior to the meeting so that appropriate arrangements can be made.

Dated: September 15, 2000.
Donald G. Barnes,
Staff Director, Science Advisory Board.

[FR Doc. 00-24673 Filed 9-25-00; 8:45 am]

BILLING CODE 6560-50-P